DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Sacramento County, California, and Incorporated Areas
Docket No.: FEMA-B-1192
Dry Creek | Approximately 1.6 miles upstream of the Natomas East Main Drainage Canal confluence | +42 | City of Sacramento, Unincorporated Areas of Sacramento County.
| Approximately 0.4 mile upstream of Elverta Road | +77
Dry Creek (North Branch) | At the Dry Creek confluence | +43 | Unincorporated Areas of Sacramento County.
| At the divergence from Dry Creek | +73
Grand Island (static flooding)—floodplain area between Sacramento River and Steamboat Slough | At the area between State Highway 160 and Grand Island Road | +10 | Unincorporated Areas of Sacramento County.
Linda Creek | Approximately 0.7 mile downstream of Indian Creek Drive | +173 | Unincorporated Areas of Sacramento County.
| Approximately 1.0 mile upstream of Cherry Avenue (at the Placer County boundary) | +271
Linda Creek (South Branch) | At the Linda Creek confluence | +198 | Unincorporated Areas of Sacramento County.
| Approximately 700 feet upstream of Walnut Avenue | +235
Pierson District (static flooding)—floodplain area east of Sacramento River | At the area north and east of River Road, south of Randall Island Road, and west of the levee extending from River Road to the intersection of Randall Island Road and State Highway 24 | +16 | Unincorporated Areas of Sacramento County.
RD 744 (static flooding)—floodplain area east of Sacramento River | At the area south and east of River Road | +20 | Unincorporated Areas of Sacramento County.
RD 746 (static flooding)—floodplain area east of Sacramento River | At the area north of Blair Street and east of River Road | +18 | Unincorporated Areas of Sacramento County.
RD 813 (static flooding)—floodplain area east of Sacramento River | At the area southeast of River Road, northeast of Herzog Road, and south of Blair Street | +17 | Unincorporated Areas of Sacramento County.
Sheet Flow Areas (AO Zones) | At the area between Bradshaw Road and Gerber Road and approximately 0.4 mile north of Carmen Cita Avenue | #2 | Unincorporated Areas of Sacramento County.
Sheet Flow Areas (AO Zones) | At the area approximately 0.8 mile east of the intersection of Bradshaw Road and Elder Creek Road and approximately 0.9 mile south of Jackson Road | #1 | Unincorporated Areas of Sacramento County.
Sierra Creek | At the Dry Creek confluence | +70 | Unincorporated Areas of Sacramento County.
| Approximately 260 feet upstream of 28th Street | +70
Sutter Island (static flooding)—floodplain area between Sacramento River, Steamboat Slough, and Sutter Slough | At the area between State Highway 160 and Sutter Island Road | +16 | Unincorporated Areas of Sacramento County.
* National Geodetic Vertical Datum.
+ North American Vertical Datum.
# Depth in feet above ground.
‸ Mean Sea Level, rounded to the nearest 0.1 meter.
ADDRESSES
City of Sacramento
Maps are available for inspection at City Hall, 915 I Street, 5th Floor, Sacramento, CA 95814.
Unincorporated Areas of Sacramento County:
Maps are available for inspection at the Sacramento County Water Resources Department, 827 7th Street, Room 301, Sacramento, CA 95814.
Livingston County, Kentucky, and Incorporated Areas
Docket No.: FEMA-B-1037
Bayou Creek (backwater effects from Ohio River) | From the Ohio River confluence to approximately 4.7 miles upstream of the Sugarcamp Creek confluence | +348 | Unincorporated Areas of Livingston County.
Bayou Creek Tributary 20 (backwater effects from Ohio River) | From the Bayou Creek confluence to approximately 1.8 miles upstream of the Bayou Creek confluence | +348 | Unincorporated Areas of Livingston County.
Bissell Creek (backwater effects from Ohio River) | From the Cumberland River confluence to approximately 2.9 miles upstream of the Cumberland River confluence | +343 | Unincorporated Areas of Livingston County.
Buck Creek (backwater effects from Ohio River) | From the Ohio River confluence to approximately 3.3 miles upstream of the Ohio River confluence | +355 | Unincorporated Areas of Livingston County.
Claylick Creek (backwater effects from Ohio River) | From the Cumberland River confluence to approximately 5 miles upstream of the Cumberland River confluence | +343 | Unincorporated Areas of Livingston County.
Cooper Creek (backwater effects from Tennessee River) | From the Tennessee River confluence to approximately 2.2 miles upstream of the Tennessee River confluence | +343 | Unincorporated Areas of Livingston County.
Cumberland River (backwater effects from Ohio River) | From the Ohio River confluence to approximately 2.5 miles upstream of the Cypress Creek confluence | +343 | City of Smithland, Unincorporated Areas of Livingston County.
Cypress Creek (backwater effects from Ohio River) | From the Cumberland River confluence to approximately 3.2 miles upstream of the Cumberland River confluence | +343 | Unincorporated Areas of Livingston County.
Deer Creek (backwater effects from Ohio River) | From the Ohio River confluence to approximately 1.7 miles upstream of the Turkey Creek confluence | +356 | Unincorporated Areas of Livingston County.
Dry Branch (backwater effects from Tennessee River) | From the Tennessee River confluence to approximately 0.6 mile upstream of the Tennessee River confluence | +342 | Unincorporated Areas of Livingston County.
Dry Fork (backwater effects from Ohio River) | From the Sandy Creek confluence to approximately 2.6 miles upstream of the Sandy Creek confluence | +343 | Unincorporated Areas of Livingston County.
Dyer Hill Creek (backwater effects from Ohio River) | From approximately 3 miles upstream of the Ohio River confluence to approximately 4.4 miles upstream of the Ohio River confluence | +345 | Unincorporated Areas of Livingston County.
Ferguson Creek (backwater effects from Ohio River) | From the Cumberland River confluence to approximately 2.1 miles upstream of the Cumberland River confluence | +343 | Unincorporated Areas of Livingston County.
Givens Creek (backwater effects from Ohio River) | From approximately 1 mile upstream of the Ohio River confluence to approximately 2.6 miles upstream of the Ohio River confluence | +352 | Unincorporated Areas of Livingston County.
Guess Creek (backwater effects from Tennessee River) | From the Tennessee River confluence to approximately 3.3 miles upstream of the Tennessee River confluence | +342 | Unincorporated Areas of Livingston County.
Guess Creek Tributary 9 (backwater effects from Tennessee River) | From the Tennessee River confluence to approximately 0.8 mile upstream of the Tennessee River confluence | +342 | Unincorporated Areas of Livingston County.
Hickory Creek (backwater effects from Ohio River) | From the Cumberland River confluence to approximately 3.8 miles upstream of the Cumberland River confluence | +343 | Unincorporated Areas of Livingston County.
Jones Creek (backwater effects from Tennessee River) | From the Cooper Creek confluence to approximately 1.8 miles upstream of the Cooper Creek confluence | +343 | Unincorporated Areas of Livingston County.
Kentucky Lake | Entire shoreline | +375 | City of Grand Rivers, Unincorporated Areas of Livingston County.
Lake Barkley | Entire shoreline | +375 | City of Grand Rivers, Unincorporated Areas of Livingston County.
Lee Creek (backwater effects from Tennessee River) | From the Tennessee River confluence to approximately 2 miles upstream of the Tennessee River confluence | +342 | Unincorporated Areas of Livingston County.
McCormick Creek (backwater effects from Ohio River) | From the Cumberland River confluence to approximately 2 miles upstream of the Cumberland River confluence | +343 | Unincorporated Areas of Livingston County.
McGilligan Creek (backwater effects from Ohio River) | From the Ohio River confluence to approximately 4.4 miles upstream of the Ohio River confluence | +350 | Unincorporated Areas of Livingston County.
Ohio River | Just upstream of the Tennessee River confluence | +340 | City of Carrsville, City of Smithland, Unincorporated Areas of Livingston County.
| Approximately 3,500 feet upstream of the Deer Creek confluence | +356
Phelps Creek (backwater effects from Ohio River) | From the Ohio River confluence to approximately 2.2 miles upstream of the Ohio River confluence | +346 | Unincorporated Areas of Livingston County.
Phelps Creek Tributary 2 (backwater effects from Ohio River) | From the Phelps Creek confluence to approximately 0.3 mile upstream of the Phelps Creek confluence | +346 | Unincorporated Areas of Livingston County.
Sandy Creek (backwater effects from Ohio River) | From the Cumberland River confluence to approximately 3 miles upstream of the Dry Fork confluence | +343 | Unincorporated Areas of Livingston County.
Smith Creek (backwater effects from Ohio River) | From the Cumberland River confluence to approximately 2.2 miles upstream of the Cumberland River confluence | +343 | Unincorporated Areas of Livingston County.
Snglin Creek (backwater effects from Ohio River) | From the Hickory Creek confluence to approximately 1,350 feet upstream of the Hickory Creek confluence | +343 | Unincorporated Areas of Livingston County,
Sugar Creek (backwater effects from Ohio River) | From the Cumberland River confluence to approximately 5.7 miles upstream of the Cumberland River confluence | +343 | Unincorporated Areas of Livingston County.
Sugarcamp Creek (backwater effects from Ohio River) | From the Bayou Creek confluence to approximately 3 miles upstream of the Bayou Creek confluence | +348 | Unincorporated Areas of Livingston County.
Sugarcamp Creek Tributary 3 (backwater effects from Ohio River) | From the Sugarcamp Creek confluence to approximately 1.4 miles upstream of the Sugarcamp Creek confluence | +348 | Unincorporated Areas of Livingston County.
Tennessee River | Approximately 5,100 feet downstream of the Hodges Creek confluence | +341 | Unincorporated Areas of Livingston County.
| At the downstream side of the Kentucky Dam | +343
Turkey Creek (backwater effects from Ohio River) | From the Deer Creek confluence to approximately 0.8 mile upstream of the Deer Creek confluence | +356 | Unincorporated Areas of Livingston County.
* National Geodetic Vertical Datum.
+ North American Vertical Datum.
# Depth in feet above ground.
‸ Mean Sea Level, rounded to the nearest 0.1 meter.
ADDRESSES
City of Carrsville
Maps are available for inspection at the Livingston County Courthouse, 339 Courthouse Drive, Smithland, KY 42081.
City of Grand Rivers
Maps are available for inspection at City Hall, 122 West Cumberland Avenue, Grand Rivers, KY 42045.
City of Smithland
Maps are available for inspection at City Hall, 310 Wilson Avenue, Smithland, KY 42081.
Unincorporated Areas of Livingston County
Maps are available for inspection at the Livingston County Courthouse, 339 Courthouse Drive, Smithland, KY 42081.
Lyon County, Kentucky, and Incorporated Areas
Docket No.: FEMA-B-1021
Cumberland River (Lake Barkley) | At the Barkley Dam | +375 | City of Eddyville, City of Kuttawa, Unincorporated Areas of Lyon County.
| At the confluence with Hurricane Creek (Trigg County boundary) | +375
Tennessee River (Kentucky Lake) | Approximately 500 feet downstream of the Barkley Canal | +375 | Unincorporated Areas of Lyon County.
| Approximately 3,200 feet upstream of the Duncan Creek confluence | +375
* National Geodetic Vertical Datum.
+ North American Vertical Datum.
# Depth in feet above ground.
‸ Mean Sea Level, rounded to the nearest 0.1 meter.
ADDRESSES
| City of Eddyville
Maps are available for inspection at 200 Commerce Street, Eddyville, KY 42038.
City of Kuttawa
Maps are available for inspection at 90 Beech Street, Kuttawa, KY 42055.
Unincorporated Areas of Lyon County
Maps are available for inspection at 500A West Dale Avenue, Eddyville, KY 42038.
Cheboygan County, Michigan (All Jurisdictions)
Docket No.: FEMA-B-1161
Black Lake | Entire shoreline within community | +616 | Township of Waverly.
Black River | Approximately 2.69 miles downstream of North Black River Road | +612 | Township of Aloha.
| Approximately 1.13 miles downstream of North Black River Road | +613
Lake Huron | Entire shoreline within community | +583 | Township of Beaugrand, Township of Benton, Township of Mackinaw.
* National Geodetic Vertical Datum.
+ North American Vertical Datum.
# Depth in feet above ground.
‸ Mean Sea Level, rounded to the nearest 0.1 meter.
ADDRESSES
Township of Aloha
Maps are available for inspection at the Aloha Township Hall, 3012 North M-33, Cheboygan, MI 49721.
Township of Beaugrand
Maps are available for inspection at the Beaugrand Township Hall, 1999 Old Mackinaw Road, Cheboygan, MI 49721.
Township of Benton
Maps are available for inspection at the Benton Township Hall, 5012 Orchard Beach Road, Cheboygan, MI 49721.
Township of Mackinaw
Maps are available for inspection at the Mackinaw Township Hall, 1095 Wallick Road, Mackinaw City, MI 49701.
Township of Waverly
Maps are available for inspection at the Waverly Township Hall, 11133 Twin School Road, Onaway, MI 49765.
Bernalillo County, New Mexico, and Incorporated Areas
Docket No.: FEMA-B-1196
Basketball Pond | Entire shoreline | +5421 | City of Albuquerque.
Glenrio Storm Drain (shallow ponding area at the intersection of Palisades Drive Northwest and Glenrio Drive Northwest) | Entire shoreline | +5095 | City of Albuquerque.
Glenrio Storm Drain | Approximately 650 feet downstream of the intersection of Hanover Road Northwest and 54th Street Northwest | +5095 | City of Albuquerque.
| At the intersection of 56th Street Northwest and Hanover Road Northwest | +5095
Kirtland Detention Pond | Entire shoreline | +5359 | City of Albuquerque.
McKnight Storm Drain | Sheet flow area between Cyndi Court Northeast and Embudo Channel | #3 | City of Albuquerque.
Shallow Ponding Area Southeast of the Intersection of Alameda Boulevard Northwest and the Albuquerque Main Line Canal | Entire shoreline | +4997 | Unincorporated Areas of Bernalillo County.
Sheet Flow along Candelaria Avenue, Northeast | Sheet flow area along Candelaria Avenue Northeast between Vermont Street Northeast and Louisiana Boulevard Northeast | #1 | City of Albuquerque.
Sheet Flow between San Mateo Boulevard Southeast and Gibson Boulevard Southeast | At the intersection of San Mateo Boulevard Southeast and Kathryn Avenue Southeast | #1 | City of Albuquerque.
| At the intersection of Gibson Boulevard Southeast and Cardenas Drive Southeast | #1
* National Geodetic Vertical Datum.
+ North American Vertical Datum.
# Depth in feet above ground.
‸ Mean Sea Level, rounded to the nearest 0.1 meter.
ADDRESSES
City of Albuquerque
Maps are available for inspection at the Planning Department, Development and Building Services Division, 600 2nd Street Northwest, Albuquerque, NM 87103.
Unincorporated Areas of Bernalillo County
Maps are available for inspection at the Bernalillo County Public Works Division, 2400 Broadway Southeast, Albuquerque, NM 87102.
Le Flore County, Oklahoma, and Incorporated Areas
Docket Nos.: FEMA-B-1083 and FEMA-B-1216
C Creek | At the McMurtrey Creek confluence | +459 | City of Poteau, Unincorporated Areas of Le Flore County.
| At the downstream side of U.S. Route 59 | +490
Caston Creek | Approximately 100 feet upstream of the Poteau River confluence | +463 | City of Poteau, Town of Wister, Unincorporated Areas of Le Flore County.
| Approximately 500 feet upstream of the confluence with Mountain Creek | +470
McMurtrey Creek | Approximately 0.42 mile downstream of Kansas City Southern Railroad | +450 | City of Poteau, Unincorporated Areas of Le Flore County.
| Approximately 1,105 feet upstream of Cavanal Scenic Expressway | +547
Morris Creek | Approximately 0.56 mile downstream of Morris Tributary confluence | +469 | Town of Howe, Unincorporated Areas of Le Flore County.
| Approximately 925 feet upstream of County Road East 1425 | +492
Morris Tributary | At the Morris Creek confluence | +476 | Town of Howe, Unincorporated Areas of Le Flore County.
| Approximately 525 feet downstream of County Road East 1430 | +501
Mountain Creek | At the confluence with Caston Creek | +470 | Town of Wister, Unincorporated Areas of Le Flore County.
| Approximately 600 feet upstream of U.S. Route 270 | +483
Polk Creek | Approximately 0.6 mile downstream of Possum Valley Road | +443 | City of Poteau, Unincorporated Areas of Le Flore County.
| Just upstream of Polk Creek Road | +584
Poteau River | Approximately 0.85 mile upstream of Old State Route 112 | +445 | City of Poteau, Unincorporated Areas of Le Flore County.
| Flooding effects from the Poteau River extending from 2.3 miles upstream of County Road East 1370 | +453
Rock Creek | Approximately 1,500 feet downstream of U.S. Route 27 | +470 | Town of Wister, Unincorporated Areas of Le Flore County.
| Approximately 0.39 mile upstream of U.S. Route 271 | +487
Town Creek North | Approximately 958 feet upstream of Witte Street | +453 | City of Poteau.
| Just upstream of Cavanal Scenic Expressway | +571
Town Creek South | At the Town Creek North confluence | +448 | City of Poteau.
| At the upstream side of Saddler Street | +461
* National Geodetic Vertical Datum.
+ North American Vertical Datum.
# Depth in feet above ground.
‸ Mean Sea Level, rounded to the nearest 0.1 meter.
ADDRESSES
City of Poteau
Maps are available for inspection at 111 Peters Street, Poteau, OK 74953.
Town of Howe
Maps are available for inspection at 21781 West Main Street, Howe, OK 74940.
Town of Wister
Maps are available for inspection at 101 Caston Street, Wister, OK 74966.
Unincorporated Areas of Le Flore County
Maps are available for inspection at 100 South Broadway Street, Poteau, OK 74953.
Crawford County, Pennsylvania (All Jurisdictions)
Docket No.: FEMA-B-1130
Conneaut Creek | Approximately 975 feet downstream of Old Depot Road | +842 | Township of Spring.
| Approximately 80 feet upstream of Old Depot Road | +927
Conneaut Outlet | Approximately 400 feet downstream of Mercer Pike | +1066 | Township of Union.
| Approximately 1,000 feet upstream of Marsh Road | +1066
Conneauttee Creek | Just upstream of State Route 99 | +1142 | Township of Venango.
| Approximately 385 feet downstream of McClellan Street | +1142
French Creek | Approximately 10 feet upstream of Townhall Road | +1066 | Township of Union.
| Approximately 1.97 mile downstream of Williams Street | +1072
French Creek | Approximately 0.86 mile downstream of Gravel Run Road | +1133 | Township of Venango.
| Approximately 696 feet downstream of McClellan Street | +1142
French Creek | Approximately 1.17 miles upstream of Main Street | +1143 | Township of Rockdale.
| Approximately 2.42 miles upstream of Main Street | +1143
Little Sugar Creek | Approximately 250 feet downstream of U.S. Route 322 | +1080 | Township of Wayne.
| Approximately 80 feet downstream of U.S. Route 322 | +1082
Torry Run | Approximately 0.56 mile downstream of Drake's Mill Road | +1142 | Township of Venango.
| Approximately 0.38 mile upstream of Drake's Mill Road | +1142
* National Geodetic Vertical Datum.
+ North American Vertical Datum.
# Depth in feet above ground.
‸ Mean Sea Level, rounded to the nearest 0.1 meter.
ADDRESSES
Township of Rockdale
Maps are available for inspection at the Rockdale Township Hall, 29393 Miller Station Road, Cambridge Springs, PA 16403.
Township of Spring
Maps are available for inspection at the Spring Township Building, 16 Beaverridge Road, Beaver Springs, PA 17812.
Township of Union
Maps are available for inspection at the Union Township Municipal Building, 3111 State Route 72, Jonestown, PA 17038.
Township of Venango
Maps are available for inspection at the Township Supervisor's Office, 21790 Center Road, Venango, PA 16440.
Township of Wayne
Maps are available for inspection at the Wayne Township Supervisor's Office, 25500 Bell Hill Road, Cochranton, PA 16314.
Laurens County, South Carolina, and Incorporated Areas
Docket No.: FEMA-B-1197
Beards Creek | Approximately 170 feet downstream of Little Acres Road | +447 | City of Clinton, Unincorporated Areas of Laurens County.
| Approximately 490 feet upstream of Brook Road | +564
Burnt Mill Creek | At the Little River confluence | +501 | Unincorporated Areas of Laurens County.
| Approximately 1,750 feet upstream of State Route 127 | +558
Burnt Mill Creek Tributary 16 | At the Burnt Mill Creek confluence | +583 | City of Laurens, Unincorporated Areas of Laurens County.
| Approximately 1.0 mile upstream of the Burnt Mill Creek confluence | +658
Burnt Mill Creek Tributary 21 | At the Burnt Mill Creek confluence | +586 | Unincorporated Areas of Laurens County.
| Approximately 1,735 feet upstream of Strickland Avenue | +620
Burnt Mill Creek Tributary 5 | Approximately 0.5 mile downstream of Roper Road | +514 | Unincorporated Areas of Laurens County.
| Approximately 1.9 miles upstream of Roper Road | +596
Burnt Mill Creek Tributary 9 | At the Burnt Mill Creek confluence | +530 | Unincorporated Areas of Laurens County.
| Approximately 1.4 miles upstream of Easy Road | +637
Burnt Mill Creek Tributary 9.2.2 | At the Burnt Mill Creek Tributary 9 confluence | +582 | Unincorporated Areas of Laurens County.
| Approximately 1.0 mile upstream of the Burnt Mill Creek Tributary 9 confluence | +632
Bush River | At the downstream side of State Route 560 | +509 | City of Clinton, Unincorporated Areas of Laurens County.
| Approximately 1.9 miles upstream of State Route 72 | +629
Cane Creek | Approximately 2.2 miles downstream of State Route 72 | +442 | Unincorporated Areas of Laurens County.
| Approximately 3.8 miles upstream of Harris Springs Road | +529
Lake Greenwood | Entire shoreline within community | +442 | Unincorporated Areas of Laurens County.
Little River | Approximately 1,075 feet upstream of Holmes Bridge Road | +496 | City of Laurens, Unincorporated Areas of Laurens County.
| Approximately 1.0 mile upstream of Ghost Creek Road | +606
Little River Tributary 1 | At the Little River confluence | +542 | Unincorporated Areas of Laurens County.
| Approximately 1,850 feet upstream of the Little River confluence | +544
Little River Tributary 2 | At the Little River confluence | +551 | City of Laurens.
| Approximately 495 feet upstream of River Street | +554
Little River Tributary 25 | At the Little River confluence | +508 | Unincorporated Areas of Laurens County.
| Approximately 1.0 mile upstream of the Little River confluence | +537
Little River Tributary 28 | At the Little River confluence | +519 | Unincorporated Areas of Laurens County.
| Approximately 0.8 mile upstream of the Little River confluence | +540
Little River Tributary 3 | At the Little River confluence | +563 | City of Laurens.
| Approximately 0.5 mile upstream of the Little River confluence | +567
Little River Tributary 31 | At the Little River confluence | +530 | Unincorporated Areas of Laurens County.
| Approximately 0.8 mile upstream of East Jerry Road | +547
Little River Tributary 37 | At the Little River confluence | +544 | City of Laurens.
| Approximately 1,190 feet upstream of East Farley Avenue | +609
Reedy Fork Creek | At the Little River confluence | +558 | City of Laurens.
| Approximately 715 feet downstream of Anderson Drive | +570
Saluda River | Approximately 3.9 miles downstream of U.S. Route 25 | +448 | Unincorporated Areas of Laurens County.
| Approximately 230 feet upstream of U.S. Business Route 25 | +531
Scout Branch | Approximately 310 feet upstream of Pamela Lane | +641 | City of Laurens.
| Approximately 0.6 mile upstream of Pamela Lane | +670
Shell Creek | Approximately 1,330 feet upstream of the Bush River confluence | +541 | City of Clinton, Unincorporated Areas of Laurens County.
| Approximately 1,060 feet upstream of Springdale Drive | +607
South Durbin Creek | Approximately 1,500 feet downstream of Boyd Street | +743 | Unincorporated Areas of Laurens County.
| Approximately 675 feet downstream of Boyd Street | +749
* National Geodetic Vertical Datum.
+ North American Vertical Datum.
# Depth in feet above ground.
‸ Mean Sea Level, rounded to the nearest 0.1 meter.
ADDRESSES
City of Clinton
Maps are available for inspection at City Hall, 211 North Broad Street, Clinton, SC 29325.
City of Laurens
Maps are available for inspection at City Hall, 126 East Public Square, Laurens, SC 29360.
Unincorporated Areas of Laurens County
Maps are available for inspection at the Laurens County Courthouse, 3 Catherine Street, Laurens, SC 29360.
Hood County, Texas, and Incorporated Areas
Docket Nos.: FEMA-B-1114 and FEMA-B-1218
Brazos River | Approximately 100 feet downstream of the Lusk Branch confluence | +695 | City of DeCordova, City of Granbury, Unincorporated Areas of Hood County.
| At the Parker County boundary | +710
Lambert Branch | Just upstream of U.S. Route 377 | +790 | Unincorporated Areas of Hood County.
| Approximately 1,830 feet upstream of Holmes Drive | +819
Stream LB-2 | Just upstream of U.S. Route 377 | +774 | Unincorporated Areas of Hood County.
| Approximately 550 feet upstream of Ross Lane | +833
* National Geodetic Vertical Datum.
+ North American Vertical Datum.
# Depth in feet above ground.
‸ Mean Sea Level, rounded to the nearest 0.1 meter.
ADDRESSES
City of DeCordova
Maps are available for inspection at 5301 Country Club Drive, Granbury, TX 76049.
City of Granbury
Maps are available for inspection at City Hall, 116 West Bridge Street, Granbury, TX 76048.
Unincorporated Areas of Hood County
Maps are available for inspection at 100 East Pearl Street, Granbury, TX 76048.

(Catalog of Federal Domestic Assistance No. 97.022, “Flood Insurance.”)

Dated: July 25, 2012.
Sandra K. Knight,
Deputy Associate Administrator for Mitigation, Department of Homeland Security, Federal Emergency Management Agency.

[FR Doc. 2012-19220 Filed 8-6-12; 8:45 am]

BILLING CODE 9110-12-P